DEPARTMENT OF THE INTERIOR

U.S. Geological Survey

Agency Information Collection: Comment Request

AGENCY: United States Geological Survey (USGS), Interior.

ACTION: Notice of a new collection.

SUMMARY: To comply with the Paperwork Reduction Act of 1995 (PRA), we are notifying the public that we will submit to OMB a new information collection request (ICR) for approval of the paperwork requirements for the National Institutes for Water Resources (NIWR)-USGS competitive grant program conducted in conjunction with the State Water Resources Research Institutes. The NIWR cooperates with the USGS in establishing total programmatic direction, reporting on the activities of the Institutes, coordinating and facilitating regional research and information and technology transfer, and in operating the NIWR-USGS Student Internship Program. Furthermore, an annual progress and final technical report for all projects is required at the end of the project period.

This notice provides the public an opportunity to comment on the paperwork burden of this collection.

DATES: You must submit comment on or before December 8, 2008.

ADDRESSES: Send your comments to the IC to Phadrea Ponds, Information Collections Clearance Officer, U.S. Geological Survey, 2150-C Center Avenue, Fort Collins, CO 80525 (mail); (970) 226-9230 (fax); or pponds@usgs.gov (e-mail). Please reference Information Collection 1028-NEW, USGS-WRRI.

FOR FURTHER INFORMATION CONTACT: John E. Schefter, Chief, Office of External Research, U.S. Geological Survey, 12201 Sunrise Valley Drive, MS 424, Reston, Virginia 20192 (mail) at (703) 648-6800 (Phone); or schefter@usgs.gov (e-mail).

SUPPLEMENTARY INFORMATION:

Title: NIWR-USGS National Competitive Grant Program.

OMB Control Number: 1028-new.

Abstract: The NIWR-USGS National Competitive Grant Program issues an annual call for proposals to support research on water problems and issues of a regional or interstate nature beyond those of concern only to a single state and which relate to specific program priorities identified jointly by the USGS and the state water resources research institutes authorized by the Water Resources Research Act of 1984, as amended (42 U.S.C. 10301 et seq.). Any investigator at an accredited institution of higher learning in the United States is eligible to apply for a grant through a water research institute or center established under the provisions of the Act. Proposals involving substantial collaboration between the USGS and university scientists are encouraged. Proposals may be for projects of 1 to 3 years in duration and may request up to $250,000 in federal funds. Successful applicants must match each dollar of the federal grant with one dollar from nonfederal sources. This program is authorized by the Water Resources Research Act of 1984, as amended (42 U.S.C. 10303(g)).

We will protect information from respondents considered proprietary under the Freedom of Information Act (5 U.S.C. 552) and implementing regulations (43 CFR Part 2), and under regulations at 30 CFR 250.197, “Data and information to be made available to the public or for limited inspection.” Responses are voluntary. No questions of a “sensitive” nature are asked. We intend to release the project abstracts and primary investigators for awarded/funded projects only.

Frequency of Collection: Annually.

Affected Public: Research investigators at accredited institutions of higher education.

Respondent's Obligation: Voluntary (necessary to receive benefits).

Estimated Number and Description of Respondents: We expect to receive approximately 65 applications and award 7 grants per year.

Estimated Annual Reporting and Recordkeeping “Hour” Burden: We estimate the public reporting burden to be 36 hours per response. This includes 24 hours per applicant to prepare and submit the application; and 12 hours (total) per grantee to complete the interim and final technical reports.

Annual Burden Hours: 1656.

Estimated Annual Reporting and Recordkeeping “Non-Hour Cost”: We have not identified any “non-hour cost” burdens associated with this collection of information.

Public Disclosure Statement: The PRA (44 U.S.C. 3501, et seq.) provides that an agency may not conduct or sponsor and you are not required to respond to, a collection of information unless it displays a currently valid OMB control number. Until OMB approves a collection of information, you are not obligated to respond.

Comments: Before submitting an ICR to OMB, PRA section 3506(c)(2)(A) (44 U.S.C. 3501, et seq.) requires each agency “ * * * to provide notice * * * and otherwise consult with members of the public and affected agencies concerning each proposed collection of information * * *” Agencies must specifically solicit comments. We invite comments concerning this information collection on:

(1) Whether or not the collection of information is necessary, including whether or not the information will have practical utility;

(2) The accuracy of our estimate of the burden for this collection of information;

(3) Ways to enhance the quality, utility, and clarity of the information to be collected; and

(4) Ways to minimize the burden of the collection of information on respondents.

Please note that the comments submitted in response to this notice are a matter of public record. Before including your address, phone number, e-mail address, or other personal identifying information in your comment, you should be aware that your entire comment, including your personal identifying information, may be made publicly available at any time. While you can ask OMB in your comment to withhold your personal identifying information from public review, we cannot guarantee that it will be done. To comply with the public process, we publish this Federal Register notice announcing that we will submit this ICR to OMB for approval. The notice provided the required 60 day public comment period.

USGS Information Collection Clearance Officer: Phadrea D. Ponds 970-226-9445.

Dated: October 1, 2008.
John E. Schefter,
Water Resources Research Act Program Coordinator.

[FR Doc. E8-23646 Filed 10-6-08; 8:45 am]

BILLING CODE 4311-AM-P